DEPARTMENT OF COMMERCE

International Trade Administration

[A-588-835]

Oil Country Tubular Goods From Japan: Notice of Extension of Time Limit for Preliminary Results of Antidumping Duty Administrative Review

AGENCY: Import Administration, International Trade Administration, Department of Commerce

EFFECTIVE DATE: April 26, 2006.

FOR FURTHER INFORMATION CONTACT: Jun Jack Zhao or Mark Hoadley, AD/CVD Operations, Office 6, Import Administration, International Trade Administration, U.S. Department of Commerce, 14th Street and Constitution Avenue, NW., Washington, DC 20230; telephone: (202) 482-1396 or (202) 482-3148, respectively.

SUPPLEMENTARY INFORMATION:

Background

On August 31, 2005, the Department of Commerce (the Department) received a timely request for an administrative review of the antidumping duty order on oil country tubular goods (OCTG) from Japan, with respect to JFE Steel Corporation, Nippon Steel Corporation, NKK Tubes, and Sumitomo Metal Industries, Ltd. On September 28, 2005, the Department published a notice of initiation of this administrative review for the period of August 1, 2004, through July 31, 2005. See Notice of Initiation of Antidumping and Countervailing Duty Administrative Reviews and Requests for Revocation in Part, 70 FR 56631 (September 28, 2005). The preliminary results of this administrative review are currently due no later than May 3, 2006.

Extension of Time Limit for Preliminary Results

Pursuant to section 751(a)(3)(A) of the Tariff Act of 1930, as amended (the Act), the Department shall issue preliminary results in an administrative review of an antidumping duty order within 245 days after the last day of the anniversary month of the date of publication of the order. The Act further provides, however, that the Department may extend that 245-day period to 365 days if it is not practicable to complete the review within the foregoing time period.

In this administrative review, the Department finds that additional time is required to collect the necessary information to corroborate the statements of two respondents who reported that they did not have any shipments of the subject merchandise during the period of review. Following our normal practice, the Department has requested detailed entry information from U.S. Customs and Border Protection (CBP). We have also asked both respondents to answer questions concerning their shipments during the period of review. After we receive all of the necessary information from the respondents and CBP, the Department will need time to analyze it and reach a decision. For these reasons, the Department has determined that is it is not practicable to complete the preliminary results of this review within the original time period. Consequently, we are extending the time for the completion of the preliminary results of this review until no later than June 19, 2006, which is 290 days from the last day of the anniversary month of the date of publication of the order.

This notice is published in accordance to sections 751 and 777(i)(1) of the Act.

Dated: April 21, 2006.
Stephen J. Claeys,
Deputy Assistant Secretary for Import Administration.

[FR Doc. E6-6287 Filed 4-25-06; 8:45 am]

BILLING CODE 3510-DS-P